DEPARTMENT OF ENERGY

Federal Energy Regulatory Commission

[Docket Nos. RM20-10-000; AD19-19-000]

Electric Transmission Incentives Policy Under Section 219 of the Federal Power Act; Notice Inviting Post-Workshop Comments

On September 10, 2021, the Federal Energy Regulatory Commission (Commission) staff convened a workshop to discuss certain shared savings incentive approaches that may foster deployment of transmission technologies in the above-captioned dockets.

All interested persons are invited to file post-workshop comments to address the issues raised during the workshop concerning incentives and shared savings. Commenters are also invited to reference material previously filed in this docket but are encouraged to avoid repetition or replication of their previous comments. Comments must be submitted on or before January 14, 2022.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2020).

For more information about this Notice, please contact:

Samin Peirovi (Technical Information), Office of Energy Policy and Innovation, (202) 502-8080, Samin.Peirovi@ferc.gov

Meghan O'Brien (Legal Information), Office of the General Counsel, (202) 502-6137, Meghan.O'Brien@ferc.gov

Dated: October 18, 2021.
Debbie-Anne A. Reese,
Deputy Secretary.

[FR Doc. 2021-23112 Filed 10-21-21; 8:45 am]

BILLING CODE 6717-01-P